DEPARTMENT OF COMMERCE

National Oceanic and Atmospheric Administration

[Docket No. 071018607-7608-01]

New NOAA Cooperative Institutes (CIs): (1) Alaska and Related Arctic Regions Environmental Research and (2) Earth System Modeling for Climate Applications

AGENCY: Office of Oceanic and Atmospheric Research, National Oceanic and Atmospheric Administration (NOAA), Department of Commerce.

ACTION: Notice of availability of funds.

SUMMARY: The Office of Oceanic and Atmospheric Research (OAR) publishes this notice to provide the general public with a consolidated source of program and application information related to two competitive cooperative agreement (CA) award offerings. Both announcements will also be available through the Grants.gov Web site.

Cooperative Institute Competitions

NOAA is accepting applications for two separate competitions to establish: (1) A CI to study environmental issues associated with Alaska and related Arctic regions and (2) a CI focused on the development and use of Earth System Modeling applied to climate applications with timescales of decadal or longer. The application and award processes for each CI will be covered in this announcement. Both CIs are expected to provide the necessary capabilities to complement NOAA's current and planned activities in support of the 5-year Research Plan and the 20-year Research Vision.

NOAA's Climate Mission Goal in the Arctic requires knowledge of atmospheric circulation throughout the entire region; inflow and fate of Pacific and Atlantic water masses throughout the central Arctic Basin and peripheral seas; sea ice dynamics in all ice covered waters of the Arctic; and state of land cover, permafrost, glaciers and ice sheets throughout the Arctic region. NOAA's Ecosystem Mission Goal proposes documentation of population trends in exploited and protected species wherever they live in order to assess and manage these species. NOAA's Weather and Water Mission Goal proposes research to understand the coastal hazards, storms, and tsunamis that affect Alaska's population, ecosystems and coast. To achieve its mission in the Arctic, NOAA will need to engage many international partners. The regional Alaska CI will be a very useful organization for promoting and facilitating international collaboration of all types. Political boundaries are not the primary determinant of the geographic scope of this regional CI focused on Alaska and neighboring Arctic issues; rather boundaries are established by the science problem being addressed.

The proposed CI for Earth System modeling will be focused on climate applications for decadal or longer timescales and will contribute to research leading to operational Earth System Models that will have many benefits for NOAA. These would include improved forecasting of ecosystem conditions; new analytical and predictive capabilities for water resources, hydrology, climate and oceans; and improved understanding the links between climate and regional impacts, including drought, hurricanes, fires, and weather extremes.

Both CIs will facilitate a long-term collaborative environment between NOAA and the recipients within which broad-based research, modeling, and education and outreach capabilities that focus on the NOAA priorities identified above can be developed and sustained. Because of the breadth of the capabilities needed for these CIs, it may be difficult for some applicants to provide all of the capabilities required to support NOAA's needs. Given this, NOAA will also consider applications from a consortium of research institutions working together as one CI. Any proposals involving a consortium will require a rationale for that configuration.

DATES: Proposals must be received by the OAR no later than 5 p.m., E.T., Monday, December 24, 2007. Proposals submitted after that date will not be considered.

ADDRESSES: Applicants are strongly encouraged to apply online through the Grants.gov Web site (http://www.grants.gov) but paper submissions are acceptable if internet access is not available. If a hard copy application is submitted, the original and two unbound copies of the proposal should be included. Paper submissions should be sent to: NOAA, OAR, 1315 East West Highway, Room 11326, Silver Spring, Maryland 20910, Attn: Dr. John Cortinas. No e-mail or facsimile proposal submissions will be accepted. The complete federal funding opportunity announcements associated with this notice can be found at the Grants.gov Web site, http://www.grants.gov, and the NOAA Web site at http://www.nrc.noaa.gov/ci.

FOR FURTHER INFORMATION CONTACT: For a copy of the federal funding opportunity announcement and/or application kit for each of these Cooperative Institutes, please go to http://www.Grants.gov, via NOAA's Web site, or contact Dr. John Cortinas, 1315 East West Highway, Room 11326, Silver Spring, Maryland 20910; Telephone: (301) 734-1090; facsimile: (301) 713-3515; e-mail: John.Cortinas@noaa.gov.

SUPPLEMENTARY INFORMATION: All applicants must comply with all requirements contained in the federal funding opportunity announcements for each of these CIs.

Background

A CI is a NOAA-supported, non-federal organization that has established an outstanding research program in one or more areas that are relevant to the NOAA mission. CIs are established at research institutions that also have a strong education program with established graduate degree programs in NOAA-related sciences. The CI provides significant coordination of resources among all non-government partners and promotes the involvement of students and postdoctoral scientists in NOAA-funded research. The CI provides mutual benefits with value provided by all parties.

For both the Alaska CI and the Earth System Modeling CI, NOAA has identified the need to establish a CI to focus on scientific research associated in support of NOAA's Strategic Plan, NOAA's 5-year Research Plan, and NOAA's 20-year Research Vision. (All documents are available at http://www.spo.noaa.gov/.)

Alaska and Related Arctic Regions Environmental Research CI

The proposed Alaska CI should possess outstanding capabilities to provide research under three themes: (1) Ecosystem studies and forecasting, (2) coastal hazards, and (3) climate change and variability. To conduct research under these themes, the proposed CI should possess the flexibility needed to work on multi-disciplinary research in collaboration with NOAA's Climate Program Office, the Alaska Fisheries Science Center, the NWS Alaska and Pacific regions, the National Centers for Coastal Ocean Science, the Alaska Center for Climate Assessment and Policy at the University of Alaska—Fairbanks, a NOAA-funded Regional Integrated Sciences and Assessments Center. In addition, the CI should collaborate with other NOAA partners including other CIs and Alaska Sea Grant. NOAA requires substantial flexibility from the CI to provide both scientific depth to existing programs and to add new capabilities when NOAA is faced with new drivers (e.g., need to advance climate impacts science or climate information services for the region or develop hazard resilient coastal communities).

The CI should have resident or affiliated faculty with broad expertise in conducting research in all three themes. Research under these themes will require expertise in physical oceanography, sea ice, marine biology, remote sensing, land surface hydrology, permafrost, terrestrial biology (including vegetative land cover), atmospheric chemistry (including trace substances and fluxes between atmosphere and ocean and atmosphere and land), glaciology, meteorology, cloud physics, space physics (including aurora research), regional climate modeling (including linkages between physical processes and ecological processes), and technology and engineering for in-situ observing systems. Staff of the CI should have experience in field operations in cold environments with a permanent or seasonal cryosphere, including ship-based operations, terrestrial camps and permanent stations, and ice camps. The CI should have staff experience in managing and implementing large-scale, multi-investigator Arctic science programs involving both domestic and foreign sponsors and scientists. The CI must have the capability to conduct research related to improving the detection of tsunamigenic earthquakes using a digital broadband seismic network.

The CI is expected to have or have access to ice breaking research vessels necessary to research ice-covered areas of the Arctic Ocean and the Bering/Chukchi/Beaufort Seas, as well as access to supercomputing facilities needed to run complex tsunami and climate models. The CI should also have the ability and desire to provide rapid-response products to address Arctic science issues of immediate importance, for example by working with NOAA scientists to test applicability of research results in an operational environment using a test bed model. This CI will play an important role in helping NOAA keep its operational and information services at the state of the art in science and technology by providing research that is needed for the 5- to 20-year time frame and working with NOAA to identify promising research that can be transitioned to operations 2 to 5 years prior to implementation.

The CI should have doctoral-level education programs in fields relevant to NOAA's high latitude missions. The CI is expected to promote student and postdoctoral involvement in research projects in ways to train the next generation of scientists and NOAA employees. The CI should provide support for graduate and undergraduate students and post-doctoral scientists that will provide a “hands-on” opportunity for the development of a wide range of expertise. NOAA can capitalize on this expertise, as CI employees and students will work with NOAA to conduct research that complements NOAA's mission needs. The CI should also have the capability to share research results conducted at the CI with the stakeholders and decision makers.

Earth System Modeling for Climate Applications CI

NOAA has established itself as the premier Federal provider of climate information. Its expertise in long term climate was recently showcased in the International Panel on Climate Change's (IPCC) Fourth Assessment Report on Climate Change. It is clear, however, that current state-of-the-art physical coupled climate models, particularly those that are used to forecast climate conditions on decadal and longer time scales, lack important features that are crucial for understanding how a warming world will affect the world's terrestrial and oceanic ecosystems and biogeochemical cycles, and importantly, how ecosystems can affect climate change. This understanding can be achieved in part by a vigorous climate observing program, and by a world class Earth System modeling capability. The proposed Earth System Modeling CI will address these needs by providing capabilities in Earth System Modeling research and Analysis to develop and improve climate models that simulate and predict chemical, physical, and ecosystem changes in the whole Earth system. The proposed Alaska CI should possess outstanding capabilities to provide research under three themes: (1) Earth system modeling and analysis, (2) data assimilation, and (3) earth system modeling applications. The CI should have capabilities and conduct research in data assimilation to develop and improve techniques to assimilate environmental observations, including aerial, terrestrial, oceanic, and biological observations, to produce the best estimate of the environmental state at the time of the observations for use in analysis, modeling, and prediction activities associated with climate predications. The CI should also have capabilities to conduct research on model applications including focus on the use of Earth System Models to study physical processes associated with long-term (decadal or longer) climate change and its impacts, including abrupt change, coastal processes, carbon management, sea-level rise, drought, the frequency of hurricanes and other extreme events, and climate predictability, as well as attributing climate change to natural and anthropogenic forces.

The proposed CI must strongly support “a strategic approach that attracts and maintains a competent and diverse workforce and creates an environment that develops, encourages, and sustains employees as they work to accomplish NOAA's strategic goals,” as described in NOAA's latest Strategic Plan. The CI must also have a strong education program with established graduate degree programs in NOAA-related sciences. These programs must provide outstanding opportunities to train the next generation of scientists and NOAA employees by giving undergraduate, graduate students, and post-doctoral scientists a “hands on” opportunity to participate in NOAA research activities. To strengthen the collaborations between NOAA and the CI, most of these students and postdocs should be located close enough to allow them to work with GFDL scientists in Princeton, New Jersey at least weekly. This training is extremely important for NOAA as it strives to attract and maintain a competent and diverse scientific workforce.

Electronic Access: Applicants can access, download, and submit electronic grant applications, including the full funding opportunity announcement, for NOAA programs at the Grants.gov Web site: http://www.grants.gov. The closing date will be the same as for the paper submissions noted in this announcement. For applicants filing through Grants.gov, NOAA strongly recommends that you do not wait until the application deadline date to begin the application process through Grants.gov. Registration may take up to 10 business days. More details on how to apply are provided in the NOAA June 30, 2005 Federal Register Notice on “Availability of Grant Funds for Fiscal Year 2006,” which can be found at: http://www.Grants.gov or http://www.ago.noaa.gov/grants/funding.shtml.

Proposals must include elements requested in the full Federal Funding Opportunity announcement on the grants.gov portal. If a hard copy application is submitted, NOAA requests that the original and two unbound copies of the proposal be included. Proposals, electronic or paper, should be no more than 75 pages (numbered) in length, excluding budget, investigators, vitae, and all appendices. Federally mandated forms are not included within the page count. Facsimile transmissions and electronic mail submission of full proposals will not be accepted.

Funding Availability: For the proposed Alaska CI, NOAA expects that approximately $2-3M will be available for the CI in the first year of the award. For the proposed Earth System Modeling CI, NOAA expects that approximately $3M will be available in the first year of the award. For each proposed CI the annual Task I budget should not exceed $300,000. The final amount of funding available for Task I will be determined during the negotiation phase of the award based on availability of funding and any NOAA policies on Task I funding. Funding for subsequent years is expected to be constant throughout the period, depending on the quality of the research, the satisfactory progress in achieving the stated goals described in the proposal, continued relevance to program objectives, and the availability of funding.

Authorities: 15 U.S.C. 313, 15 U.S.C. 1540; 15 U.S.C. 2901 et seq., 16 U.S.C. 753a, 33 U.S.C. 883d, 33 U.S.C. 1442, 49 U.S.C. 44720(b).

(Catalog of Federal Domestic Assistance: 11.432, Office of Oceanic and Atmospheric Research (OAR) Joint and Cooperative Institutes.)

Eligibility: Eligibility is limited to non-federal public and private non-profit universities, colleges and research institutions that offer accredited graduate level degree-granting programs in NOAA-related sciences.

Cost Sharing Requirements: To stress the collaborative nature and investment of a CI by both NOAA and the research institution, cost sharing is required. There is no minimum cost sharing requirement; however, the amount of cost sharing will be considered when determining the level of CI commitment under NOAA's standard evaluation criteria for overall qualification of applicants. Acceptable cost-sharing proposals include, but are not limited to, offering a reduced indirect cost rate against activities in one or more Tasks, waiver of indirect costs assessed against base funds and/or Task I activities, waiver or reduction of any costs associated with the use of facilities at the CI, and full or partial salary funding for the CI director, administrative staff, graduate students, visiting scientists, or postdoctoral scientists.

Intergovernmental Review: Applications under this program are not subject to Executive Order 12372, “Intergovernmental Review of Federal Programs.”

Evaluation Criteria and Review and Selection Procedures: NOAA's standard evaluation criteria and the review and selection procedures contained in NOAA's June 30, 2005, omnibus notice are applicable to this solicitation and are as follows:

A. Evaluation Criteria for Projects

Proposals will be evaluated using the standard NOAA evaluation criteria. Various questions under each criterion are provided to ensure that the applicant includes information that NOAA will consider important during the evaluation, in addition to any other information provided by the applicant. Note that information on how the proposal addresses issues related to the National Environmental Policy Act (NEPA) will not be needed in this submission but will be required when individual projects are proposed.

1. Importance and/or relevance and applicability of proposed project to the program goals (25 percent): This criterion ascertains whether there is intrinsic value in the proposed work and/or relevance to NOAA, Federal, regional, State, or local activities.

• Does the proposal include research goals and projects that address the critical issues identified in NOAA's 5-year Research Plan, NOAA's Strategic Plan, and the priorities described in the federal funding opportunity announcement published at http://www.grants.gov?

• Is there a demonstrated commitment (in terms of resources and facilities) to enhance existing NOAA and CI resources to foster a long-term collaborative research environment/culture?

• Is there a strong education program with established graduate degree programs in NOAA-related sciences that also encourages student participation in NOAA-related research studies?

• (For the Earth System Modeling CI only) Will most of the staff at the CI be located near a NOAA facility, particularly the Geophysical Fluid Dynamics Laboratory in Princeton, New Jersey, to enhance collaborations with NOAA?

2. Technical/scientific merit (30 percent): This criterion assesses whether the approach is technically sound and/or innovative, if the methods are appropriate, and whether there are clear project goals and objectives.

• Does the project description include a summary of clearly stated goals to be achieved during the five-year period that reflect NOAA's strategic plan and goals?

• Does the CI involve partnerships with other universities or research institutions, including Minority Serving Institutions and universities with strong departments that can contribute to the proposed activities of the CI?

3. Overall qualifications of applicants (30 percent): This criterion ascertains whether the applicant possesses the necessary education, experience, training, facilities, and administrative resources to accomplish the project.

• If the institution(s) and/or principal investigators have received current or recent NOAA funding, is there a demonstrated record of outstanding performance working with NOAA scientists on research projects?

• Is there internationally recognized expertise within the appropriate disciplines needed to conduct the collaborative/interdisciplinary research described in the proposal?

• Is there a well-developed business plan that includes fiscal and human resource management as well as strategic planning and accountability?

• Are there any unique capabilities in a mission-critical area of research for NOAA?

• Has the applicant shown a substantial investment to the NOAA partnership, as demonstrated by the amount of the cost sharing contribution?

4. Project costs (5 percent): The budget is evaluated to determine if it is realistic and commensurate with the project needs and time-frame.

5. Outreach and education (10 percent): NOAA assesses whether this project provides a focused and effective education and outreach strategy regarding NOAA's mission to protect the Nation's natural resources.

B. Review and Selection Process

An initial administrative review/screening is conducted to determine compliance with requirements/completeness. All proposals will be evaluated and individually ranked in accordance with the assigned weights of the above evaluation criteria by an independent peer panel review. At least three experts, who may be Federal or non-Federal, will be used in this process. If non-Federal experts participate in the review process, each expert will submit an individual review and there will be no consensus opinion. The merit reviewers' ratings are used to produce a rank order of the proposals. The Selecting Official selects proposals after considering the peer panel reviews and selection factors listed below. In making the final selections, the Selecting Official will award in rank order unless the proposal is justified to be selected out of rank order based upon one or more of the selection factors.

C. Selection Factors

The merit review ratings shall provide a rank order to the Selecting Official for final funding recommendations. The Selecting Official shall award in the rank order unless the proposal is justified to be selected out of rank order based upon one or more of the following factors:

1. Availability of funding.

2. Balance/distribution of funds:

a. Geographically.

b. By type of institutions.

c. By type of partners.

d. By research areas.

e. By project types.

3. Whether this project duplicates other projects funded or considered for funding by NOAA or other Federal agencies.

4. Program priorities and policy factors.

5. Applicant's prior award performance.

6. Partnerships and/or participation of targeted groups.

7. Adequacy of information necessary for NOAA staff to make a NEPA determination and draft necessary documentation before recommendations for funding are made to the Grants Officer.

Applicants must comply with all requirements contained in the full funding opportunity announcements for each project competition in this announcement.

Universal Identifier: Applicants should be aware that, they are required to provide a Dun and Bradstreet Data Universal Numbering System (DUNS) number during the application process. See the October 30, 2002 Federal Register, Vol. 67, No. 210, pp. 66177-66178 for additional information. Organizations can receive a DUNS number at no cost by calling the dedicated toll-free DUNS Number request line at 1 (866) 705-5711 or via the internet (http://www.dunandbradstreet.com).

National Environmental Policy Act (NEPA): NOAA must analyze the potential environmental impacts, as required by the National Environmental Policy Act (NEPA), for applicant projects or proposals which are seeking NOAA federal funding opportunities. Detailed information on NOAA compliance with NEPA can be found at NOAA's NEPA Web site, http://www.nepa.noaa.gov/, and the Council on Environmental Quality implementation regulations, http://ceq.eh.doe.gov/nepa/regs/ceq/toc_ceq.htm.

While not part of this initial application, upon award and subsequent submission of projects, the CI is required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if such assessment is required. Applicants will also be required to cooperate with NOAA in identifying feasible measures to reduce or avoid any identified adverse environmental impacts of their proposal. The failure to cooperate with NOAA shall be grounds for not selecting an application. In some cases if additional information is required after an application is selected, funds can be withheld by the Grants Officer under a special award condition requiring the recipient to submit additional environmental compliance information sufficient to enable NOAA to make an assessment on any impacts that a project may have on the environment.

Pre-Award Notification Requirements for Grants and Cooperative Agreements

The Department of Commerce Pre-Award Notification Requirements for Grants and Cooperative Agreements contained in the Federal Register notice of December 30, 2004 (69 FR 78389) are applicable to this solicitation.

Limitation of Liability: Funding for years 2-5 of the Cooperative Institute is contingent upon the availability of appropriated funds. In no event will NOAA or the Department of Commerce be responsible for application preparation costs if these programs fail to receive funding or are cancelled because of other agency priorities. Publication of this announcement does not oblige NOAA to award any specific project or to obligate any available funds.

Paperwork Reduction Act: This notification involves collection of information requirements subject to the Paperwork Reduction Act. The use of Standard Forms 424, 424A, 424B, and SF-LLL and CD-346 has been approved by the Office of Management and Budget (OMB) respectively under Control Numbers 0348-0043, 0348-0044, 0348-0040, and 0348-0046 and 0605-0001. Notwithstanding any other provision of law, no person is required to respond to, nor shall any person be subject to a penalty for failure to comply with, a collection of information subject to the requirements of the PRA unless that collection of information displays a currently valid OMB control number.

Executive Order 12866: It has been determined that this notice is not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, grants, benefits, and contracts (5 U.S.C. 553 (a)(2)).

Because notice and opportunity for comments are not required pursuant to 5 U.S.C. 553 or any other law, the analytical requirements of the Regulatory Flexibility Act (5 U.S.C. 601 et seq.) are inapplicable. Therefore, a regulatory flexibility analysis is not required and none has been prepared.

Dated: October 18, 2007.
Terry J. Bevels,
Deputy Chief Financial Officer, Office of Oceanic and Atmospheric Research, National Oceanic and Atmospheric Administration.

[FR Doc. E7-20973 Filed 10-23-07; 8:45 am]

BILLING CODE 3510-KD-P